COMMISSION ON CIVIL RIGHTS

Notice of Public Meeting of the Hawai'i Advisory Committee

AGENCY: U.S. Commission on Civil Rights.

ACTION: Announcement of a virtual business meeting.

SUMMARY: Notice is hereby given, pursuant to the provisions of the rules and regulations of the U.S. Commission on Civil Rights (Commission) and the Federal Advisory Committee Act (FACA) that a meeting of the Hawai'i Advisory Committee to the Commission will convene by ZoomGov on Wednesday, June 21, 2023, from 2:00 p.m. to 3:30 p.m. HST, to discuss the selection of panelists for the Committee's upcoming briefings.

DATES: The meeting will take place on Wednesday, June 21, 2023, from 2:00 p.m.-3:30 p.m. HST

ADDRESSES:

Link to Join (Audio/Visual): https://www.zoomgov.com/j/1607062294?pwd=VE1BeUFhR3hnQ1NUWG9NTjJzYUtqQT09.

Audio: (833) 435-1820; Meeting ID: 160 706 2294#.

FOR FURTHER INFORMATION CONTACT: Kayla Fajota, Designated Federal Officer (DFO) at kfajota@usccr.gov or by phone at (434) 515-2395.

SUPPLEMENTARY INFORMATION: Committee meetings are available to the public through the videoconference link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Closed captions will be provided for individuals who are deaf, deafblind, or hard of hearing. To request additional accommodations, please email kfajota@usccr.gov at least 10 business days prior to the meeting.

Members of the public are entitled to make comments during the open period at the end of the meeting. Members of the public may also submit written comments; the comments must be received in the Regional Programs Unit within 30 days following the meeting. Written comments may be emailed to Kayla Fajota at kfajota@usccr.gov.

Records and documents discussed during the meeting will be available for public viewing prior to and after the meeting at https://www.facadatabase.gov/FACA/FACAPublicViewCommitteeDetails?id=a10t0000001gzl0AAA.

Please click on “Committee Meetings” tab. Records generated from this meeting may also be inspected and reproduced at the Regional Programs Unit, as they become available, both before and after the meeting. Persons interested in the work of this Committee are directed to the Commission's website, https://www.usccr.gov, or may contact the Regional Programs Unit at the above phone number or email address.

Agenda

I. Welcome and Roll Call

II. Announcements and Updates

III. Approval of Prior Minutes

IV. Discussion: Panel Planning

V. Next Steps

VI. Public Comment

VII. Adjournment

Dated: May 30, 2023.
David Mussatt,
Supervisory Chief, Regional Programs Unit.

[FR Doc. 2023-11828 Filed 6-2-23; 8:45 am]

BILLING CODE P